DEPARTMENT OF COMMERCE

National Oceanic and Atmospheric Administration

[I.D. 032404A]

Endangered and Threatened Species; Take of Anadromous Fish

AGENCY: National Marine Fisheries Service (NMFS), National Oceanic and Atmospheric Administration (NOAA), Commerce.

ACTION: Notice of final determination and discussion of underlying biological analysis.

SUMMARY: NMFS has evaluated the joint resource management plan (RMP) for artificial propagation, research, monitoring, and evaluation of Ozette Lake sockeye salmon provided by the Makah Tribe and, as resource co-manager, the Washington Department of Fish and Wildlife (WDFW), pursuant to the protective regulations promulgated for Ozette Lake sockeye salmon under the Endangered Species Act (ESA). The RMP specifies implementation of artificial propagation, research, monitoring, and evaluation measures that potentially affect listed Ozette Lake sockeye salmon. This document serves to notify the public that NMFS, by delegated authority from the Secretary of Commerce, has determined pursuant to the ESA 4(d) Tribal Rule and the government-to-government processes therein that implementing and enforcing the RMP will not appreciably reduce the likelihood of survival and recovery of the Ozette Lake sockeye salmon Evolutionarily Significant Unit (ESU).

DATES: The final determination on the take limit was made on July 17, 2003.

ADDRESSES: Salmon Recovery Division, National Marine Fisheries Service, 525 N.E. Oregon St., Suite 510, Portland, OR 97232.

FOR FURTHER INFORMATION CONTACT: Tim Tynan at phone number: (360) 753-9579, or e-mail: tim.tynan@noaa.gov.

SUPPLEMENTARY INFORMATION: This notice is relevant to the Ozette Lake sockeye salmon (Oncorhynchus nerka) Evolutionarily Significant Unit (ESU).

Electronic Access: The full texts of NMFS' determination, and the final Evaluation are available on the Internet at http://www.nwr.noaa.gov/

Background

The Makah Tribe and, as co-managers of the fisheries resource with the Tribe, Washington Department of Fish and Wildlife (WDFW) (Co-managers), provided a joint Resource Management Plan (RMP) for artificial propagation and associated research, monitoring and evaluation actions that will affect listed Ozette Lake sockeye salmon. The joint RMP was prepared and submitted to NOAA Fisheries by the co-managers as a framework through which the tribal and the state jurisdiction will jointly manage sockeye salmon artificial propagation, research, monitoring, and evaluation activities while meeting requirements specified under the Endangered Species Act (ESA). The RMP guides co-manager activities proposed to increase the number of naturally spawning sockeye salmon in Ozette Lake tributaries, and to collect scientific information regarding factors limiting the productivity of listed Ozette Lake sockeye salmon, including the potential effects of hatchery sockeye salmon production. On August 1, 2002, NMFS published notice in the Federal Register on its ESA 4(d) Rule evaluation and recommended determination of how the Ozette Lake sockeye salmon RMP addressed the criteria in § 223.203 (b)(5) of the ESA 4 (d) rule of the RMP (67 FR 49905). In response to public requests, on October 4, 2002, NMFS published an additional notice in the Federal Register extending the public review and comment period on the ESA 4(d) Rule evaluation and recommended determination regarding the RMP (67 FR 62229).

As required by § 223.203 (b)(6) of the ESA 4 (d) rule, NMFS must determine pursuant to 50 CFR 223.209 and pursuant to the government-to-government processes therein whether the RMP for Ozette Lake sockeye salmon would appreciably reduce the likelihood of survival and recovery of the Ozette Lake sockeye salmon ESU. NMFS must take comments on how the RMP addresses the criteria in § 223.203 (b)(5) in making that determination.

Discussion of the Biological Analysis Underlying the Determination

Implementation of the artificial propagation actions proposed in the RMP is likely to benefit the abundance, productivity, spatial structure, and diversity of Ozette Lake sockeye salmon. Measures based on the best available science are applied in the artificial propagation portion of the RMP to ensure that the program is implemented in a manner that is adequately protective of the listed sockeye salmon ESU. The primary purpose of the proposed hatchery program is the creation of self-sustaining sockeye salmon populations in Ozette Lake tributaries where past sockeye salmon spawning and production may have occurred, and where kokanee (land-locked O. nerka) populations are very small. If successful, the tributary stocking program will extend the range of Ozette Lake sockeye salmon within critical habitat for the listed ESU, potentially increasing natural-origin sockeye salmon abundance, the diversity of sockeye salmon life history traits and behavior, and possibly the morphological and genetic characteristics of sockeye salmon included in the ESU. The hatchery program will rely on indigenous stock-origin sockeye salmon adults returning to Ozette Lake tributaries, and extant lake spawning aggregations will not be collected for use as hatchery broodstock. Annual collection of up to 200 sockeye salmon adults from Umbrella Creek will lead to the production of approximately 80,000 unfed and fed sockeye fry for release into Umbrella Creek and approximately 133,000 unfed and fed sockeye fry into Big River. Applying an estimated fry to returning adult survival rate of 0.6% from the RMP to the total fry releases at the two locations, beginning in 2004, 480 adult sockeye may return to Umbrella Creek and 798 adults may return to Big River each year as a direct result of tributary hatchery program juvenile sockeye releases. Additional natural-origin adult fish produced by hatchery program-origin fish that spawn naturally in the tributaries will return concurrently with the direct hatchery-origin adult sockeye.

The program's 12-year, or three-sockeye salmon generations per release site, duration is intended to address the concern that repeated enhancement of the same population segment might result in a decrease in effective population size of the target population. It also limits the length of time natural-origin sockeye salmon are exposed to potentially deleterious selective effects of hatchery conditions to a few generations, minimizing the likelihood for divergence between hatchery and natural-origin fish within the supplemented stock. Limitation of fish rearing in the hatchery to the fry life stage minimizes the degree of human intervention in the natural life cycle, which also acts to decrease the risk of inadvertent hatchery selection effects.

Actions resulting in removal of listed sockeye salmon adults from the natural environment for artificial propagation are confined to the tributary broodstock collection program (listed NOR tributary-origin fish), and a study addressing beach-spawned egg and fry survival. The actual numbers of adults returning each year to the Ozette Lake sockeye salmon ESU will be substantially higher than total numbers proposed for take through these actions. The tributary broodstock program is focused on hatchery-origin sockeye salmon returns, and will not lead to the take of adult fish from the core, listed lake spawning population. Monitoring programs are implemented to ensure that injury and mortality rates for adult sockeye salmon collected as broodstock are minimized, and that egg-to-release survival rates for sockeye progeny brought into the hatchery are maximized. Proposed listed sockeye salmon removals from the spawning beaches for research purposes will be very low relative to total annual returns to the lake, and unlikely to impair population survival and recovery.

Research, monitoring, and evaluation activities included in the RMP have not been identified as factors for decline of the Ozette Lake sockeye salmon ESU, and are generally considered an essential part of salmon recovery efforts. For these programs, the co-managers worked with NMFS and cooperating agencies to develop projects that will benefit the conservation and recovery of the listed species. The projects will provide information that will enhance the ability to make more effective and responsible decisions to aid listed sockeye salmon. The resulting data will enhance knowledge about Ozette Lake sockeye salmon life history, specific biological requirements, genetic make-up, migration timing, responses to anthropogenic impacts, and survival in various parts of the ESU's range. This information will also benefit scientific understanding of sockeye salmon productivity in Ozette Lake, and of factors limiting sockeye abundance and productivity. The results of the research are essential for making determinations regarding listed sockeye salmon recovery needs. The RMP also includes provisions for annual reports. Annual reports will assess compliance with performance standards established through the RMP. Reporting and inclusion of new information derived from RMP research, monitoring, and evaluation activities provides assurance that performance standards will be achieved in future seasons. NMFS' evaluation is available on the Salmon Recovery Division web site (see Electronic Access, under the heading, SUPPLEMENTARY INFORMATION).

Summary of Comments Received in Response to the Proposed Evaluation and Pending Determination

NMFS published notice of its proposed evaluation and pending determination on the RMP for public review and comment on August 1, 2002 (67 FR 49905), and again on October 4, 2002 (67 FR 62229). During the 45 days that the documents were available for public comment, two organizations and one private citizen submitted comments to NMFS. Several comments were addressed in NMFS' final Evaluation and Recommended Determination document, but no substantive changes were required to the RMP. Generally, public comments on both documents concerned clarification of aspects of the analyses, and did not represent objections to the proposed action. The major topics raised involved the relationship between the tributary sockeye salmon populations that are the target of the propagation programs and the ESA-listed beach-spawning populations, and the potential future application of fisheries in the action area. As summarized above, the RMP considered in the NMFS evaluation document does not propose hatchery supplementation of the beach-spawning sockeye salmon population, nor the initiation of any fisheries. Any future proposals regarding these actions will necessitate reinitiation of evaluation and determination processes by NMFS to determine compliance with ESA protective provisions. A detailed summary of the comments and NMFS' responses is also available on the Salmon Recovery Division website. Based on its evaluation and recommended determination and taking into account the public comments, NMFS issued its final determination on the Ozette Lake sockeye salmon RMP.

Authority

Under section 4 of the ESA, the Secretary of Commerce is required to adopt such regulations as he deems necessary and advisable for the conservation of species listed as threatened. The ESA salmon and steelhead 4(d) rule (65 FR 42422, July 10, 2000) specifies categories of activities that contribute to the conservation of listed salmonids and sets out the criteria for such activities. The rule further provides that the prohibitions of paragraph (a) of the rule do not apply to actions undertaken in compliance with a RMP developed jointly by the State of Washington and the Tribes and determined by NMFS to be in accordance with the salmon and steelhead 4 (d) rule (65 FR 42422, July 10, 2000).

Dated: March 30, 2004.
Susan Pultz,
Acting Chief, Endangered Species Division, Office of Protected Resources, National Marine Fisheries Service.

[FR Doc. 04-8113 Filed 4-8-04; 8:45 am]

BILLING CODE 3510-22-S